DEPARTMENT OF TRANSPORTATION

Federal Aviation Administration

Third Meeting: RTCA Special Committee 206: Aeronautical Information Services Data Link

AGENCY: Federal Aviation Administration (FAA), DOT.

ACTION: Notice of RTCA Special Committee 206 meeting.

SUMMARY: The FAA is issuing this notice to advise the public of a meeting of RTCA Special Committee 206: Aeronautical Information Services Data Link.

DATES: The meeting will be held January 30-February 3, 2006, from 9 a.m. to 5 p.m.

ADDRESSES: The meeting will be held at CASTOR Conference Room (Plenary) EUROCONTROL Headquarters, Rue de la Fusée, 96 1130 Brussells, Belgium.

FOR FURTHER INFORMATION CONTACT: RTCA Secretariat, 1828 L Street, NW., Suite 805, Washington, DC, 20036-5133; telephone (202) 833-9339; fax (202) 833-9434; Web site http://www.rtca.org.

SUPPLEMENTARY INFORMATION: Pursuant to section 10(a)(2) of the Federal Advisory Committee Act (P.L. 92-463, 5 U.S.C., Appendix 2), notice is hereby given for a Special Committee 206 meeting. The agenda will include:

Monday, January 30:

• Opening Session (Chairman's Address, Welcome, Introductory and Administrative Remarks, Review Agenda, Approve minutes of the 2nd meeting,)

• Formal announcement of EUROCAE participation

• Working arrangements

• Nomination of chairman and secretary

• Status of Terms of Reference Overview and Discussions—Committee Chairmen

• Review of actions and discussion

• Presentations

• Communications Strategy

• Overview of the Cascade Program

• Future data Link applications

• Methodology and OSED development

• Breakout into Weather Data Link and AIS Data Link Subgroups

Tuesday, January 31-Thursday, February 2:

• Continue in Weather Data Link and AIS Data Link Subgroups

Friday, February 3:

• Continue in Weather Data Link and AIS Data Link Subgroups

• Chairman of Weather Subgroup Summary Presentation of Results and Meeting Outcome

• Chairwoman of AIS Subgroup Summary Presentation of Results and Meeting Outcome

• Closing Session (Other Business, Chairman Wrap Up and Conclusions, Data and Place of Next Meeting, Closing Remarks, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on January 13, 2006.
Natalie Ogletree,
FAA General Engineer, RTCA Advisory Committee.

[FR Doc. 06-591 Filed 1-23-06; 8:45 am]

BILLING CODE 4910-13-M